DEPARTMENT OF COMMERCE

National Oceanic and Atmospheric Administration

RIN 0648-XF147

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will take place on Monday, January 30 through Thursday, February 2, 2017.

ADDRESSES: The meeting will be held at the Astor Crowne Plaza hotel, located at 739 Canal Street, New Orleans, LA; telephone: (504) 962-0500.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, January 30, 2017; 8:30 a.m.-5:30 p.m.

The Administrative/Budget Committee will conduct a review of advisory panels; and discuss the Council's future participation at Marine Resource Educational Program (MREP) Workshops. The Data Collection Management Committee will receive a presentation update on Collection Location Satellites' (CLS) America Project. The Committee will review the Final Action—Modifications to Generic Charter Vessel and Headboat Reporting Requirements in the Gulf of Mexico; and review Final Action—South Atlantic Council's modifications to Charter Vessel and Headboat Reporting Requirements. The Migratory Species Management Committee will receive an overview of the management of Highly Migratory Species (HMS); and receive a report from the International Commission for the Conservation of Atlantic Tunas (ICCAT) meeting in Portugal. The Spiny Lobster Management Committee will discuss draft options for Framework Amendment 1. The Joint Coral/Habitat Protection & Restoration Committees will receive a presentation on the Biology of Corals; and review a revised scoping draft for Coral Amendment 7. The Shrimp Management Committee will review the public hearing draft for Shrimp Amendment 17B.

Tuesday, January 31, 2017; 8:30 a.m.-5:30 p.m.

The Reef Fish Management Committee will receive an update on the SEDAR Gag Assessment; receive a summary from the Joint Ad Hoc Red Snapper Charter Vessel and Ad Hoc Reef Fish Headboat Advisory Panels (AP) meeting. The committee will review public hearing drafts for Amendment 44—Minimum Stock Size Threshold (MSST) for Reef Fish Stocks, Public Hearing Draft of Amendment 36A—Modifications to Commercial Individual Fishing Quota (IFQ) programs, and Public Hearing Draft of Amendment 46—Gray Triggerfish Rebuilding Plan. The committee will review and discuss the Gulf Anglers Focus Group Report; receive a presentation and Scientific and Statistical Committee (SSC) report on the mechanism to carry over the unharvested Red Snapper Annual Catch Limit (ACL) to the following season; Preliminary 2016 Red Snapper For-Hire Landings Relative to ACL; receive a presentation on Amendment 36B—Commercial Reef Fish IFQ Modifications, and review Options Paper for Amendment 47—Modify Vermillion Snapper ACLs and Maximum Sustainable Yield (MSY) Proxy.

Wednesday, February 1, 2017; 8 a.m.-5:30 p.m.

The Reef Fish Management Committee will review a draft Framework Action—Mutton Snapper ACL and Management Measures and Gag Commercial Size Limit and Standing and Reef Fish SSC Summary. Under Other Business the committee will discuss the 2017 recreational fishing season for greater amberjack. The Mackerel Committee will review Final Action—CMP Amendment 29—Allocation Sharing and Accountability Measures for Gulf King Mackerel; review of CMP AP meeting and public hearing comments; and review SSC discussion of updated Gulf King Mackerel.

The Full Council will convene mid-morning (approximately 10:45 a.m.) with a Call to Order, Announcements, Introductions; Adoption of Agenda and Approval of Minutes; and review of Exempt Fishing Permit (EFPs) Applications, if any. The Council will receive presentations on revisions to National Standard 1 Guidelines, Law Enforcement Report on Fiscal 2016 Maritime Boundary Line Activities, and Commercial Fishing Vessel Classification Standards. After lunch, the Council will receive a presentation from the Louisiana Law Enforcement Agency. The Council will receive public testimony from 2:30 p.m. until 5:30 p.m. on the following agenda testimony items: Final Action on Generic Amendment to Require Electronic Reporting For-Hire Vessels in the Gulf of Mexico, Final Action on Coastal Migratory Pelagics Amendment 29: King Mackerel Allocation Sharing and Recreational Accountability Measures; and on Final Action—South Atlantic Council's modifications to Charter Vessel and Headboat Reporting Requirements; and, hold an open public testimony period regarding any other fishery issues or concern. Anyone wishing to speak during public comment should sign in at the registration station located at the entrance to the meeting room.

Thursday, February 2, 2017; 8 a.m.-4:30 p.m.

Full Council will receive committee reports from Data Collection, Shrimp, Reef Fish, Mackerel, Administrative/Budget, Spiny Lobster, Migratory Species and Joint Coral/Habitat Protection & Restoration Management Committees; and, vote on Exempted Fishing Permit (EFP) applications, if any. The Council will receive updates from the following supporting agencies: South Atlantic Fishery Management Council; Gulf States Marine Fisheries Commission; U.S. Coast Guard; U.S. Fish and Wildlife Service; and, the Department of State.

Lastly, the Council will discuss any Other Business items.

—Meeting Adjourns

The timing and order in which agenda items are addressed may change as required to effectively address the issue. The latest version will be posted on the Council's file server, which can be accessed by going to the Council's Web site at http://www.gulfcouncil.org and clicking on FTP Server under Quick Links. For meeting materials, select the “Briefing Books/Briefing Book 2017-01” folder on Gulf Council file server. The username and password are both “gulfguest”. The meetings will be webcast over the internet. A link to the webcast will be available on the Council's Web site, http://www.gulfcouncil.org.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: January 6, 2017.
Tracey L. Thompson,
Acting Deputy Director, Office of Sustainable Fisheries, National Marine Fisheries Service.

[FR Doc. 2017-00486 Filed 1-11-17; 8:45 am]

BILLING CODE 3510-22-P